DEPARTMENT OF ENERGY

Federal Energy Regulatory Commission

Notice of Request To Use Alternative Procedures in Preparing a License Application

May 24, 2002.

Take notice that the following request to use alternative procedures to prepare a new license application has been filed with the Commission.

a. Type of Application: Request to use alternative procedures to prepare a license application.

b. Project No.: 2150.

c. Date filed: May 20, 2002.

d. Applicant: Puget Sound Energy, Inc.

e. Name of Project: Baker River Hydroelectric Project.

f. Location: On the Baker River in Skagit and Whatcom Counties, Washington. The project occupies 5,335 acres of United States lands managed by the U.S. Forest Service.

g. Filed Pursuant to: Federal Power Act, 16 U.S.C. 791(a)—825(r).

h. Applicant Contact: Connie Freeland, Puget Sound Energy, Inc., P.O. Box 97034, Bellevue, WA, 98009-9734; cfreel@puget.com (425) 462-3556.

i. FERC Contact: Steve Hocking, steve.hocking@ferc.gov (202) 219-2656.

j. Deadline for Comments: 30 days from the date of this notice.

All documents (an original and eight copies) should be filed with: Magalie R. Salas, Secretary, Federal Energy Regulatory Commission, 888 First Street, NE., Washington, DC 20426.

Comments may be filed electronically via the Internet in lieu of paper. See 18 CFR 385.2001(a)(1)(iii) and the instructions on the Commission's web site (http://www.ferc.gov) under the “e-Filing” link.

k. The existing Baker River Project has two developments. The Upper Baker Development is located at river mile 9.35 on the Baker River about 8 miles upstream of the City of Concrete, Washington. This development has the following existing facilities: (1) A 312-foot-high and 1,200-foot-long dam with an ogee-type spillway containing three radial gates that are each 25 feet wide and 30 feet high; (2) a 115-foot-high and 1,200-foot-long West Pass dike; (3) a 9-mile-long reservoir (Baker Lake) with a surface area of 4,797 acres at a normal maximum pool elevation of 724 feet mean sea level (fmsl); (4) a 122-foot-long and 59-foot-wide reinforced concrete powerhouse located in the north half of the existing riverbed and housing two turbine-driven generators with an authorized capacity of 90.7 megawatts (MW) and a hydraulic capacity of 5,100 cubic feet per second (cfs); (5) transmission lines; (6) downstream fish passage facilities and artificial spawning beaches; and (7) appurtenant facilities.

The Lower Baker Development is located 0.5 mile upstream of the confluence of the Baker and Skagit Rivers. This development has the following existing facilities: (1) A 285-foot-high and 570-foot-long concrete gravity arch dam with a spillway containing 23 vertical slide gates that are each 14 feet high and 9.5 feet wide; (2) a concrete intake equipped with trashracks and gatehouse located near the left dam abutment; (3) one concrete and steel-lined penstock; (4) a 7-mile-long reservoir (Lake Shannon) with a surface area of 2,190 acres at a normal maximum pool elevation of 438.6 fmsl; (5) a reinforced concrete powerhouse that is 90 feet long and 66 feet wide housing a single turbine-generator with an authorized capacity of 71.4 MW and a hydraulic capacity of 4,100 cfs; (6) transmission lines; (7) a barrier dam; (8) upstream and downstream fish passage facilities; and (9) appurtenant facilities.

l. A copy of the request to use alternative procedures is on file with the Commission and is available for public inspection. This filing may also be viewed on the web at http://www.ferc.gov using the “RIMS” link—select “Docket #” and follow the instructions (call 202-208-2222 for assistance). A copy is also available for inspection and reproduction at the address in item h above.

m. Puget Sound Energy, Inc. has demonstrated that it has made an effort to contact all federal and state resources agencies, non-governmental organizations (NGO), and others affected by the project. Puget Sound Energy Inc. has also demonstrated that a consensus exists that the use of alternative procedures is appropriate in this case. Puget Sound Energy Inc. has submitted a communications protocol that is supported by the stakeholders.

The purpose of this notice is to invite any additional comments on Puget Sound Energy Inc.'s request to use the alternative procedures, pursuant to Section 4.34(i) of the Commission's regulations. Additional notices seeking comments on the specific project proposal, interventions and protests, and recommended terms and conditions will be issued at a later date. Puget Sound Energy Inc. will develop and file a preliminary National Environmental Policy Act Document, in lieu of an exhibit E in its license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Puget Sound Energy Inc. has met with federal and state resources agencies, NGOs, elected officials, environmental groups, business and economic development organizations, and members of the public regarding the Baker River Project. Puget Sound Energy Inc. intends to file 6-month progress reports during the alternative procedures process that leads to the filing of a license application by April 30, 2004.

Magalie R. Salas,
Secretary.

[FR Doc. 02-13664 Filed 5-30-02; 8:45 am]

BILLING CODE 6717-01-P